DEPARTMENT OF COMMERCE

National Oceanic and Atmospheric Administration

[I.D. 061203G]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Vessel Monitoring and Communications.

Form Number(s): None.

OMB Approval Number: 0648-0404.

Type of Request: Regular submission.

Burden Hours: 974.

Number of Respondents: 150.

Average Hours Per Response: 1 hour for installation of a vessel monitoring system (VMS); 2 minutes for verification of installation; 5 seconds for an automatic position report; and 2 minutes for a Letter of Authorization Exemption request.

Needs and Uses: Owners or operators of vessels that have caught 500 metric tons of herring in the past year, or intend to catch 500 metric tons in the current year, must equip their vessels with an approved Vessel Monitoring System (VMS). The VMS units automatically report the vessel's position at least once per hour when the vessel is underway. Vessel owners must submit proof that the VMS has been installed. Herring carriers may be exempted from this requirement by obtaining a letter of authorization from NOAA.

Affected Public: Business or other for-profit organizations, individuals or households.

Frequency: On occasion, hourly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: June 11, 2003.
Gwellnar Banks,
Management Analyst, Office of the Chief Information Officer.

[FR Doc. 03-15405 Filed 6-17-03; 8:45 am]

BILLING CODE 3510-22-S